NUCLEAR REGULATORY COMMISSION

[Docket Nos. 50-272 AND 50-311]

PSEG Nuclear, LLC, EXELON Generation Company, LLC, Salem Nuclear Generating Station, Unit Nos. 1 and 2; Notice of Withdrawal of Applicaton for Amendments to Facility Operating Licenses

The Nuclear Regulatory Commission (NRC or the Commission) has granted the request of PSEG Nuclear LLC (PSEG), on behalf of PSEG and Exelon Generation Company, LLC (the licensees), to withdraw its April 15, 2004, application for proposed amendments to Facility Operating License Nos. DPR-70 and DPR-75 for the Salem Nuclear Generating Station, Unit Nos. 1 and 2, respectively, located in Salem County, New Jersey.

The proposed change to the fire protection program would have decreased the carbon dioxide concentration, hold time, and number of discharges for the fire suppression systems in the 4160-volt switchgear rooms, 460-volt switchgear rooms, and lower electrical penetration area rooms. The Commission had previously issued a Notice of Consideration of Issuance of Amendments published in the Federal Register November 23, 2004 (69 FR 68184). However, by letter dated September 26, 2005, PSEG withdrew the above-referenced proposed change.

For further details with respect to this action, see the application for amendments dated April 15, 2004, and the request for withdrawal dated September 26, 2005. Documents may be examined, and/or copied for a fee, at the NRC's Public Document Room (PDR), located at One White Flint North, Public File Area 01 F21, 11555 Rockville Pike (first floor), Rockville, Maryland. Publicly-available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR reference staff by telephone at 1-800-397-4209, or (301) 415-4737, or by e-mail to pdr@nrc.gov.

Dated at Rockville, Maryland, this 29th day of September 2005.
For the Nuclear Regulatory Commission.
Stewart N. Bailey, Sr.
Project Manager, Section 2, Project Directorate I, Division of Licensing Project Management, Office of Nuclear Reactor Regulation.

[FR Doc. 05-19922 Filed 10-4-05; 8:45 am]

BILLING CODE 7590-01-P